DEPARTMENT OF ENERGY

Federal Energy Regulatory Commission

[Docket No. RD14-5-000]

Proposed Agency Information Collection

AGENCY: Federal Energy Regulatory Commission, DOE.

ACTION: Notice and request for comments.

SUMMARY: The Federal Energy Regulatory Commission (Commission) invites public comment in Docket No. RD14-5-000 on a proposed collection of information that the Commission is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before July 14, 2014.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver an original of their comments to: Federal Energy Regulatory Commission, Secretary of the Commission, 888 First Street NE., Washington, DC 20426.

FOR FURTHER INFORMATION CONTACT: Ellen Brown may be reached by email at DataClearance@FERC.gov, telephone at (202) 502-8663, and fax at (202) 273-0873.

SUPPLEMENTARY INFORMATION: The proposed information collection in Docket No. RD14-5-000 relates to the proposed Reliability Standards MOD-032-1 (Data for Power System Modeling and Analysis) and MOD-033-1 (Steady-State and Dynamics System Model Validation), developed by the North American Electric Reliability Corporation (NERC), and submitted to the Commission for approval. NERC's petition related to the proposed Reliability Standards MOD-032-1 and MOD-033-1 was approved on May 1, 2014, pursuant to the relevant authority delegated to the Director, Office of Electric Reliability under 18 CFR 375.303.

Reliability Standard MOD-032-1 consolidates NERC-approved Reliability Standards MOD-011-0, MOD-013-1 and MOD-014-0, as well as, Commission approved Reliability Standards MOD-010-0 and MOD-012-0, into one standard.¹ Reliability Standard MOD-032-1 requires data submission by applicable data owners to their respective transmission planners and planning coordinators to support the interconnection model building process in their interconnection. Reliability Standard MOD-033-1 is a new standard that requires each planning coordinator to implement a documented process to perform model validation within its planning area. The purpose of the Reliability Standards is to establish comprehensive modeling data requirements, reporting procedures, and validation requirements necessary to accurately model the interconnected transmission system for the near‐term transmission planning horizon and the long‐term transmission planning horizon.

¹ In Order No. 693, the Commission approved Reliability Standards MOD-010 and MOD-012. Regarding Reliability Standards MOD-011, MOD-013, MOD-014, and MOD-015, the Commission in Order No. 693 did not approve or remand the standards, pending the receipt of additional information. Mandatory Reliability Standards for the Bulk-Power System, Order No. 693, 72 FR 16416 (Apr. 4, 2007), at PP 1131-1222, order on reh'g, Order No. 693-A, 120 FERC ¶ 61,053 (2007).

Burden Statement: The number of respondents is based on the NERC Registry as of April 30, 2014. Public reporting burden for this proposed collection is estimated as:

MOD-032-1
[Data for power system modeling and analysis]
FERC-725A | Number of respondents ² | Number of responses per respondent | Average burden hours per response | Total annual burden hours | Total annual cost ³
| (1) | (2) | (3) | (1)×(2)×(3)
Develop data requirements and reporting procedures | PA, TP (200) | 1 | 8 | 1,600 | $96,000 one-time ($60/hr).
Data Submittal | BA, GO, LSE, PA, RP, TO, TP, TSP (1,355) | 1 | 8 | 10,840 | $650,400 ($60/hr).
Evidence Retention | BA, GO, LSE, PA, RP, TO, TP, TSP (1,355) | 1 | 1 | 1,355 | $43,360 ($32/hr).
Total |  |  |  |  | $789,760

MOD-033-1
[Steady-state and dynamics system model validation]
FERC-725A | Number of respondents ² | Number of responses per respondent | Average burden hours per response | Total annual burden hours | Total annual cost ³
| (1) | (2) | (3) | (1)×(2)×(3)
Develop data validation procedures | PA (75) | 1 | 8 | 600 | $36,000 one-time ($60/hr).
Data Submittal | RC, TOP (196) | 1 | 8 | 1,568 | $94,080 ($60/hr).
Evidence Retention | PA, RC, TOP (200) | 1 | 1 | 200 | $6,400 ($32/hr).
Total |  |  |  |  | $136,480.

Dated: May 7, 2014.
Kimberly D. Bose,
Secretary.

² PA = Planning Authority, GO = Generator Owner, TP = Transmission Planner, BA = Balancing Authority, LSE = Load Serving Entity, RP = Resource Planner, TSP = Transmission Service Provider, RC = Reliability Coordinator, TOP = Transmission Operator.

³ The estimates for cost per hour (rounded to the nearest dollar) are derived as follows:

• $60/hour, the average salary plus benefits per engineer (from Bureau of Labor Statistics at http://bls.gov/oes/current/naics3_221000.htm).

• $32/hour, the salary plus benefits per information and record clerks (from Bureau of Labor Statistics at http://bls.gov/oes/current/naics3_221000.htm).

[FR Doc. 2014-11017 Filed 5-13-14; 8:45 am]

BILLING CODE 6717-01-P